DEPARTMENT OF COMMERCE

National Institute of Standards and Technology

[Docket No. 0911121401-91402-01]

FY 2010 Measurement, Science and Engineering Research Grants Programs; Availability of Funds

AGENCY: National Institute of Standards and Technology, Commerce.

ACTION: Notice.

SUMMARY: The National Institute of Standards and Technology (NIST) announces that the following programs are soliciting applications for financial assistance for FY 2010: (1) The Electronics and Electrical Engineering Laboratory Grants Program; (2) the Manufacturing Engineering Laboratory Grants Program; (3) the Chemical Science and Technology Laboratory Grants Program; (4) the Physics Laboratory Grants Program; (5) the Materials Science and Engineering Laboratory Grants Program; (6) the Building Research Grants and Cooperative Agreements Program; (7) the Fire Research Grants Program; (8) the Information Technology Laboratory Grants Program; (9) the NIST Center for Neutron Research Grants Program; (10) Center for Nanoscale Science and Technology Grants Program; and (11) the Technology Services Grants Program.

Each program will only consider applications that are within the scientific scope of the program as described in this notice and in the detailed program descriptions found in the Federal Funding Opportunity (FFO) announcement for these programs. Prior to preparation of a proposal, it is strongly suggested that potential applicants contact the Program Manager for the appropriate field of research, as specified in the FFO announcement found at http://www.grants.gov, for clarification of the program objectives and to determine whether their proposal is responsive to this notice.

DATES: For all programs except the Fire Research Grants Program, applications received after June 1, 2010 may be processed and considered for funding under this solicitation in the current fiscal year or in the next fiscal year, subject to the availability of funds. For the Fire Research Grants Program, applications received after January 15, 2010 may be processed and considered for funding under this solicitation in the current fiscal year or in the next fiscal year, subject to the availability of funds. Applications, paper and electronic, must be received prior to the publication date in the Federal Register of the FY 2011 solicitation for the NIST Measurement, Science and Engineering Research Grants Programs in order to be processed under this solicitation.

ADDRESSES: See below.

SUPPLEMENTARY INFORMATION: Catalog of Federal Domestic Assistance Name and Number: Measurement and Engineering Research and Standards—11.609.

Electronics and Electrical Engineering Laboratory (EEEL) Grants Program

Program Description: The Electronics and Electrical Engineering Laboratory (EEEL) Grants Program will provide grants and cooperative agreements for the development of fundamental electrical metrology and of metrology supporting industry and government agencies in the broad areas of semiconductors, electronic instrumentation, radio-frequency technology, optoelectronics, magnetics, superconductors, electronic commerce as applied to electronic products and devices, the transmission and distribution of electrical power, national electrical standards (fundamental, generally quantum-based physical standards), and law enforcement standards. Financial support may be provided for conferences, workshops, or other technical research meetings that are relevant to the mission of the Electronics and Electrical Engineering Laboratory. Specific information regarding program objectives can be found in the corresponding Federal Funding Opportunity for this announcement.

DATES: Applications will be considered on a continuing basis. Applications received after June 1, 2010 may be processed and considered for funding under this solicitation in the current fiscal year or in the next fiscal year, subject to the availability of funds. All applications, paper and electronic, must be received prior to the publication date in the Federal Register of the FY 2011 solicitation for the NIST Measurement, Science and Engineering Research Grants Programs in order to be processed under this solicitation.

ADDRESSES: Paper applications must be submitted to: Ms. Sheilda Bryner, Electronics and Electrical Engineering Laboratory, National Institute of Standards and Technology, 100 Bureau Drive, Stop 8100, Gaithersburg, MD 20899-8100. Electronic applications and associated proposal information should be uploaded to http://www.grants.gov.

FOR FURTHER INFORMATION CONTACT: Program questions should be addressed to Sheilda Bryner, Electronics and Electrical Engineering Laboratory, National Institute of Standards and Technology, 100 Bureau Drive, Stop 8100, Gaithersburg, MD 20899-8100, Tel.: (301) 975-2959, Fax: (301) 975-4091. Grants administration questions concerning this program should be addressed to: Christopher Hunton, NIST Grants and Agreements Management Division, (301) 975-5718; christopher.hunton@nist.gov. For assistance with using http://www.grants.gov, contact support@grants.gov or (800) 518-4726.

Electronic Access: Applicants are strongly encouraged to read the Federal Funding Opportunity (FFO) available at http://www.grants.gov for complete information about this program, all program requirements, and instructions for applying by paper or electronically. A paper copy of the FFO may be obtained by calling (301) 975-6328.

Funding Availability: In fiscal year 2009, the EEEL Grants Program made 5 new awards, totaling $388,383. The amount available each year fluctuates considerably based on programmatic needs and funding availability. For FY 2010, awards are expected to range between $5,000 and $150,000.

For the Electronics and Electrical Engineering Laboratory Grants Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Electronics and Electrical Engineering Laboratory Grants Program, and the availability of funds. Multi-year awards must have scopes of work that can be easily separated into annual increments of meaningful work that represent solid accomplishments if prospective funding is not made available to the applicant, (i.e., the scopes of work for each funding period must produce identifiable and meaningful results in and of themselves).

Statutory Authority: As authorized by 15 U.S.C. 272(b) and (c), the NIST Electronics and Electrical Engineering Laboratory conducts a basic and applied research program directly and through grants and cooperative agreements to eligible recipients.

Eligibility: The Electronics and Electrical Engineering Laboratory Grants Program is open to institutions of higher education; hospitals; non-profit organizations; commercial organizations; State, local, and Indian Tribal governments; foreign governments; organizations under the jurisdiction of foreign governments; and international organizations.

Review and Selection Process: For the Electronics and Electrical Engineering Laboratory Grants Program, proposals will be reviewed in a three-step process. First, the EEEL Grants Coordinator, or the Deputy Director of EEEL, will determine the compatibility of the applicant's proposal with EEEL Program Areas and the relevance to the objectives of the Electronics and Electrical Engineering Laboratory Grants Program, described in the Program Description section above. If it is determined that the proposal is incomplete or non-responsive to the scope of the stated objectives, the proposal will not be reviewed for technical merit. If it is determined that sufficient funding is not available to consider grant and cooperative agreement proposals in the technical area of the proposal, the proposal will not be reviewed for technical merit. One copy of any such proposal will be retained for record keeping purposes for three years and all remaining copies will be destroyed. Proposers may contact EEEL at 301-975-2959 to find out if funds have been exhausted for the fiscal year. EEEL will also post a notice on its Web site, http://www.eeel.nist.gov/eeel_grants/, when funds are exhausted for the fiscal year. EEEL will notify proposers in writing if their proposals are not reviewed for technical merit.

Second, proposals will be distributed for technical review by the EEEL Grants Coordinator, or other technical professionals familiar with the programs of the Electronics and Electrical Engineering Laboratory, to the appropriate Division or Office based on technical area. At least three independent, objective individuals knowledgeable about the particular scientific area addressed by the proposal will conduct a technical review based on the evaluation criteria. If non-Federal reviewers are used, the reviewers may discuss the proposals with each other, but scores will be determined on an individual basis, not as a consensus.

Reviews will be conducted on a monthly basis, and all proposals received on or before the 15th day of the month will be ranked based on the reviewers' scores.

Third, the Division Chief or Office Director will make application selections. In making application selections, the Division Chief or Office Director will take into consideration the results of the reviewers' evaluations, the availability of funding, and relevance to the objectives of the Electronics and Electrical Engineering Laboratory Grants Program, as described in the Program Description section above. The final approval of selected applications and award of financial assistance will be made by the NIST Grants Officer based on compliance with application requirements as published in this notice and the FFO, compliance with applicable legal and regulatory requirements, and whether the recommended applicants appear to be responsible. Applicants may be asked to modify objectives, work plans, or budgets and provide supplemental information required by the agency prior to award. The decision of the Grants Officer is final.

Unsuccessful applicants will be notified in writing. The Program will retain one copy of each unsuccessful application for three years for record keeping purposes. The remaining copies will be destroyed.

Evaluation Criteria: For the Electronics and Electrical Engineering Laboratory Grants Program, the evaluation criteria the technical reviewers will use in evaluating the proposals are as follows:

1. Rationality. Reviewers will consider the coherence of the applicant's approach and the extent to which the proposal effectively addresses scientific and technical issues.

2. Technical Merit of Contribution. Reviewers will consider the potential technical effectiveness of the proposal and the value it would contribute to the field of electronics, electrical engineering and metrology research. Proposals must be relevant to current EEEL research and have a relation to the objectives of ongoing EEEL programs and activities.

3. Qualifications of Technical Personnel. Reviewers will consider the professional accomplishments, skills, and training of the proposed personnel to perform the work in the project.

4. Resources Availability. Reviewers will consider the extent to which the proposer has access to the necessary facilities and overall support to accomplish project objectives.

Each of these factors will be given equal weight in the evaluation process.

Cost Share Requirements: The Electronics and Electrical Engineering Laboratory Grants Program does not require any cost share or matching funds.

Manufacturing Engineering Laboratory (MEL) Grants Program

Program Description: The Manufacturing Engineering Laboratory (MEL) Grants Program will provide grants and cooperative agreements in the following fields of research: Dimensional Metrology for Manufacturing, Mechanical Metrology for Manufacturing, Machine Tool and Machining Process Metrology, Intelligent Systems, and Information Systems Integration for Applications in Manufacturing. Financial support may be provided for conferences, workshops, or other technical research meetings that are relevant to the mission of the Manufacturing Engineering Laboratory. Specific information regarding program objectives can be found in the corresponding Federal Funding Opportunity for this announcement.

Dates: Applications will be considered on a continuing basis. Applications received after June 1, 2010 may be processed and considered for funding under this solicitation in the current fiscal year or in the next fiscal year, subject to the availability of funds. All applications, paper and electronic, must be received prior to the publication date in the Federal Register of the FY 2011 solicitation for the NIST Measurement, Science and Engineering Research Grants Programs in order to be processed under this solicitation.

Addresses: Paper applications must be submitted to: Ms. Alana Glover, Manufacturing Engineering Laboratory, National Institute of Standards and Technology, 100 Bureau Drive, Stop 8200, Gaithersburg, Maryland 20899-8200. Electronic applications and associated proposal information should be uploaded to http://www.grants.gov.

For Further Information Contact: Program questions should be addressed to Ms. Alana Glover, Manufacturing Engineering Laboratory, National Institute of Standards and Technology, 100 Bureau Drive, Stop 8200, Gaithersburg, Maryland 20899-8200, Tel: (301) 975-3400, E-mail: aglover@nist.gov. Grants administration questions concerning this program should be addressed to: Christopher Hunton, NIST Grants and Agreements Management Division, (301) 975-5718; christopher.hunton@nist.gov. For assistance with using http://www.grants.gov, contact support@grants.gov or (800) 518-4726.

Electronic Access: Applicants are strongly encouraged to read the Federal Funding Opportunity (FFO) available at http://www.grants.gov for complete information about this program, all program requirements, and instructions for applying by paper or electronically. A paper copy of the FFO may be obtained by calling (301) 975-6328.

Funding Availability: In fiscal year 2009, the MEL Grants Program funded six new awards, totaling $473,613. In fiscal year 2010 awards are expected to range from approximately $25,000 to $250,000.

For the MEL Grants Program, proposals will be considered for research projects from one to five years. When a proposal for a multi-year award is approved, funding will generally be provided for only the first year of the program. If an application is selected for funding, NIST has no obligation to provide any additional funding in connection with the award. Continuation of an award to increase funding or extend the period of performance is at the total discretion of NIST. Funding for each subsequent year of a multi-year proposal will be contingent upon satisfactory progress, continued relevance to the mission of the MEL Grants Program, and the availability of funds. Multi-year awards must have scopes of work that can be easily separated into annual increments of meaningful work that represent solid accomplishments if prospective funding is not made available to the applicant, (i.e., the scopes of work for each funding period must produce identifiable and meaningful results in and of themselves).

Statutory Authority: As authorized under 15 U.S.C. 272(b) and (c), the MEL conducts a basic and applied research program directly and through grants and cooperative agreements to eligible recipients.

Eligibility: The MEL Grants Program is open to institutions of higher education; hospitals; non-profit organizations; commercial organizations; State, local, and Indian Tribal governments; foreign governments; organizations under the jurisdiction of foreign governments; and international organizations.

Review and Selection Process: For the MEL Grants Program responsive proposals will be assigned, as received on a rolling basis, to the most appropriate area for review. Proposals will be reviewed on a rolling basis in a three-step process. First, the MEL Deputy Director or the appropriate MEL Division Chief will determine the applicability of the proposal with regard to MEL programs and the relevance of the proposal's objectives to current MEL research. If it is determined that the proposal is incomplete or non-responsive to the scope of the stated objectives, the proposal will not be reviewed for technical merit. One copy of any such proposal will be retained for record keeping purposes for three years and any remaining copies will be destroyed. Second, the appropriate MEL Division Chief or MEL Program Manager will determine the possibility for funding availability within the MEL technical program area most relevant to the objectives of the proposal. If it is determined that sufficient funding is not available to consider grant and cooperative agreement proposals in the technical area of the proposal, the proposal will not be reviewed for technical merit. One copy of any such proposal will be retained for record keeping purposes for three years and all remaining copies will be destroyed. Proposers may contact MEL at 301-975-3400 to find out if funds have been exhausted for the fiscal year. MEL will also post a notice on its Web site, http://www.mel.nist.gov when funds are exhausted for the fiscal year. MEL will notify proposers in writing if their proposals are not reviewed for technical merit. Third, if the proposal passes the first two steps, at least three independent, objective individuals knowledgeable about the particular scientific area addressed by the proposal will conduct a technical review based on the evaluation criteria. If non-Federal reviewers are used, the reviewers may discuss the proposal with each other, but scores will be determined on an individual basis, not as a consensus.

The MEL Director or appropriate MEL Division Chief will make application selections from the grants proposals submitted. In making the application selections, the Laboratory Director or Division Chief will take into consideration the results of the reviewers' evaluations, the availability of funds, and relevance to the objectives or research areas of the MEL Grants Program. These objectives are described above in the Program Description section.

The final approval of selected applications and award of financial assistance will be made by the NIST Grants Officer based on compliance with application requirements as published in this notice and the FFO, compliance with applicable legal and regulatory requirements, and whether the recommended applicants appear to be responsible. Applicants may be asked to modify objectives, work plans, or budgets and provide supplemental information required by the agency prior to award. The decision of the Grants Officer is final.

Unsuccessful applicants will be notified in writing. The Program will retain one copy of each unsuccessful application for three years for record keeping purposes. The remaining copies will be destroyed.

Evaluation Criteria: For the MEL Grants Program, the evaluation criteria the technical reviewers will use in evaluating the proposals are as follows:

1. Rationality. Reviewers will consider the coherence of the applicant's approach and the extent to which the proposal effectively addresses scientific and technical issues.

2. Technical Merit of Contribution. Reviewers will consider the potential technical effectiveness of the proposal and the value it would contribute to the field of manufacturing engineering and metrology research. Proposals must be relevant to current MEL research and have a relation to the objectives of ongoing MEL programs and activities.

3. Qualifications of Technical Personnel. Reviewers will consider the professional accomplishments, skills, and training of the proposed personnel to perform the work in the project.

4. Resources Availability. Reviewers will consider the extent to which the proposer has access to the necessary facilities and overall support to accomplish project objectives.

Each of these factors will be given equal weight in the evaluation process.

Cost Share Requirements: The MEL Grants Program does not require any cost share or matching funds.

Chemical Science and Technology Laboratory Grants Program

Program Description: The Chemical Science and Technology Laboratory (CSTL) Grants Program will provide grants and cooperative agreements consistent with the CSTL mission in the following fields of measurement science research, focused on reference methods, reference materials and reference data: Biochemical Science, Chemical and Biochemical Reference Data, Process Measurements, Surface and Microanalysis Science, Thermophysical Properties, and Analytical Chemistry. Financial support may be provided for conferences, workshops, or other technical research meetings that are relevant to the mission of the CSTL. Specific information regarding program objectives can be found in the corresponding Federal Funding Opportunity for this announcement.

The Programs are structured to support CSTL's three objectives:

1. Provide the national traceability and international comparability structure for measurements in chemistry, chemical engineering, and biochemical sciences.

2. Assure that U.S. industry has access to accurate and reliable data and predictive models to determine the chemical and physical properties of materials and processes.

3. Anticipate and address next-generation measurement needs of the Nation.

Dates: Applications will be considered on a continuing basis. Applications received after June 1, 2010 may be processed and considered for funding under this solicitation in the current fiscal year or in the next fiscal year, subject to the availability of funds. All applications, paper and electronic, must be received prior to the publication date in the Federal Register of the FY 2011 solicitation for the NIST Measurement, Science and Engineering Research Grants Programs in order to be processed under this solicitation.

Addresses: Paper applications must be submitted to: Ms. Donna Kimball, Chemical Science and Technology Laboratory, National Institute of Standards and Technology, 100 Bureau Drive, Stop 8300, Gaithersburg, MD 20899-8300. Electronic applications and associated proposal information should be uploaded to http://www.grants.gov.

For Further Information Contact: Program questions should be addressed to Ms. Donna Kimball, Chemical Science and Technology Laboratory, National Institute of Standards and Technology, 100 Bureau Drive, Stop 8300, Gaithersburg, MD 20899-8300, Tel (301) 975-8300, e-mail: donna.kimball@nist.gov. Grants administration questions concerning this program should be addressed to: Christopher Hunton, NIST Grants and Agreements Management Division, (301) 975-5718; christopher.hunton@nist.gov. For assistance with using http://www.grants.gov, contact support@grants.gov or (800) 518-4726.

Electronic Access: Applicants are strongly encouraged to read the Federal Funding Opportunity (FFO) available at http://www.grants.gov for complete information about this program, all program requirements, and instructions for applying by paper or electronically. A paper copy of the FFO may be obtained by calling (301) 975-6328.

Funding Availability: No funds have been set aside specifically for the CSTL Grants Program. The availability of funds depends upon actual authorization of funds and other costs expected to be incurred by individual divisions within the laboratory. Where funds are identified as available for grants, those funds will be awarded to highly ranked proposals as determined by the process described in this notice.

In fiscal year 2009, the CSTL Grants Program funded 7 new awards, totaling $1,688,939. In fiscal year 2010, the CSTL Grants Program anticipates funding of approximately $1,000,000. For FY 2010 awards are expected to range from approximately $5,000 to $200,000.

For the Chemical Science and Technology Laboratory Grant Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Chemical Science and Technology Laboratory Grants Program, and the availability of funds. The multi-year awards must have scopes of work that can be easily separated into annual increments of meaningful work that represent solid accomplishments if prospective funding is not made available to the applicant, (i.e. the scopes of work for each funding period must produce identifiable and meaningful results in and of themselves).

Statutory Authority: As authorized under 15 U.S.C. 272(b) and (c), the Chemical Science and Technology Laboratory conducts a basic and applied research program directly and through grants and cooperative agreements to eligible recipients.

Eligibility: The Chemical Science and Technology Laboratory Grants Program is open to institutions of higher education; hospitals; non-profit organizations; commercial organizations; State, local, and Indian Tribal governments; foreign governments; organizations under the jurisdiction of foreign governments; and international organizations.

Review and Selection Process: For the Chemical Science and Technology Laboratory Grants Program, proposals will be reviewed in a three-step process. First, the CSTL Grants Coordinator, the Deputy Director of CSTL or the corresponding CSTL Division Chief will determine the compatibility of the applicant's proposal with CSTL Program Areas and the relevance to the objectives of the Chemical Science and Technology Laboratory Grants Program, described in the Program Description section above. If it is determined that the proposal is incomplete or non-responsive to the scope of the stated objectives, the proposal will not be reviewed for technical merit. One copy of any such proposal will be retained for record keeping purposes for three years and all remaining copies will be destroyed.

Second, at least three independent, objective individuals knowledgeable about the particular measurement science area addressed by the proposal will conduct a technical review based on the evaluation criteria. Reviews will be conducted on a quarterly basis, subject to the availability of funds, and all responsive, complete proposals received and reviewed since the last quarter will be ranked based on the reviewers' scores. If non-Federal reviewers are used, the reviewers may discuss the proposals with each other, but scores will be determined on an individual basis, not as a consensus.

Third, the Division Chief or the CSTL Deputy Director, generally after collaboration, will make application selections, taking into consideration the results of the reviewers' evaluations, the availability of funds, and the relevance to the objectives described in the Program Description section above.

The final approval of selected applications and award of financial assistance will be made by the NIST Grants Officer based on compliance with application requirements as published in this notice and the FFO, compliance with applicable legal and regulatory requirements, whether the application furthers the objectives of the Department of Commerce, and whether the recommended applicants appear to be responsible. Applicants may be asked to modify objectives, work plans, or budgets and provide supplemental information required by the agency prior to award. The decisions of the Grants Officer are final.

Unsuccessful applicants will be notified in writing. The Program will retain one copy of each unsuccessful application for three years for record keeping purposes. The remaining copies will be destroyed.

Evaluation Criteria: For the Chemical Science and Technology Laboratory Grants Program, the evaluation criteria the technical reviewers will use in evaluating the proposals are as follows:

1. Rationality. Reviewers will consider the coherence of the applicant's approach and the extent to which the proposal effectively addresses scientific and technical issues.

2. Qualifications of Technical Personnel. Reviewers will consider the professional accomplishments, skills, and training of the proposed personnel to perform the work in the project.

3. Resources Availability. Reviewers will consider the extent to which the proposer has access to the necessary facilities and overall support to accomplish project objectives.

4. Technical Merit of Contribution. Reviewers will consider the potential technical effectiveness of the proposal and the value it would contribute to the field of measurement science, especially as it pertains to reference methods, reference materials and reference data in Chemical Science and Technology.

Each of these factors will be given equal weight in the evaluation process.

Cost Share Requirements: The Chemical Science and Technology Laboratory Grants Program does not require any cost sharing or matching funds.

Physics Laboratory Grants Program

Program Description: The Physics Laboratory (PL) Grants Program will provide grants and cooperative agreements in the following fields of research: Electron and Optical Physics, Atomic Physics, Optical Technology, Ionizing Radiation, Time and Frequency, and Quantum Physics. Specific information regarding program objectives can be found in the corresponding Federal Funding Opportunity for this announcement. Financial support may be provided for conferences, workshops, or other technical research meetings that are relevant to the mission of the Physics Laboratory.

Dates: Applications will be considered on a continuing basis. Applications received after June 1, 2010 may be processed and considered for funding under this solicitation in the current fiscal year or in the next fiscal year, subject to the availability of funds. All applications, paper and electronic, must be received prior to the publication date in the Federal Register of the FY 2011 solicitation for the NIST Measurement Science and Engineering Research Grants Programs in order to be processed under this solicitation.

Addresses: Paper applications must be submitted to: Ms. Anita Sweigert, Physics Laboratory, National Institute of Standards and Technology, 100 Bureau Drive, Stop 8400, Gaithersburg, MD 20899-8400. Electronic applications and associated proposal information should be uploaded to http://www.grants.gov.

For Further Information Contact: Program questions should be addressed to Ms. Anita Sweigert, Physics Laboratory, National Institute of Standards and Technology, 100 Bureau Drive, Stop 8400, Gaithersburg, MD 20899-8400, Tel (301) 975-4200, E-Mail: anita.sweigert@nist.gov. It is strongly suggested to first confirm the program objectives with the Program Manager prior to preparing a detailed proposal. Grants administration questions concerning this program should be addressed to: Christopher Hunton, NIST Grants and Agreements Management Division, (301) 975-5718; christopher.hunton@nist.gov. For assistance with using http://www.grants.gov contact, support@grants.gov or (800) 518-4726.

Electronic Access: Applicants are strongly encouraged to read the Federal Funding Opportunity (FFO) available at http://www.grants.gov for complete information about this program, all program requirements, and instructions for applying by paper or electronically. A paper copy of the FFO may be obtained by calling (301) 975-6328.

Funding Availability

In fiscal year 2009, the PL Grants Program funded 21 new awards, totaling $2,566,192. In fiscal year 2010, the PL Grants Program anticipates funding of approximately $2,000,000, including new awards and continuing projects. Funding availability will be apportioned by quarter. For FY 2010 individual awards are expected to range from approximately $5,000 to $500,000 per year.

For the Physics Laboratory Grants Program, proposals will be considered for research projects from one to five years. When a proposal for a multi-year project is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Physics Laboratory Grants Program, and the availability of funds. The multi-year awards must have scopes of work that can be easily separated into annual increments of meaningful work that represent solid accomplishments if prospective funding is not made available to the applicant (i.e., the scopes of work for each funding period must produce identifiable and meaningful results in and of themselves).

Statutory Authority: As authorized under 15 U.S.C. 272(b) and (c), the Physics Laboratory conducts a basic and applied research program directly and through grants and cooperative agreements to eligible recipients.

Eligibility: The Physics Laboratory Grants Program is open to institutions of higher education; hospitals; non-profit organizations; commercial organizations; State, local, and Indian Tribal governments; foreign governments; organizations under the jurisdiction of foreign governments; and international organizations.

Review and Selection Process: For the Physics Laboratory Grants Program, responsive proposals will be considered as follows: If a preliminary review determines that the proposal is incomplete or non-responsive to the scope of the stated objectives, the proposal will not be reviewed for technical merit. One copy of any such proposal will be retained for record keeping purposes for three years and all remaining copies will be destroyed. All applications that are complete and responsive to the solicitation will be reviewed for technical merit.

First, at least three independent, objective individuals knowledgeable about the particular scientific area described in the proposal will conduct a technical review of each proposal, based on the evaluation criteria described in the Evaluation Criteria section below. Reviews will be conducted on a monthly basis within each division of the Physics Laboratory, and all proposals received during the month will be ranked based on the reviewers' scores. If non-Federal reviewers are used, reviewers may discuss the proposals with each other, but scores will be determined on an individual basis, not as a consensus.

Next, the Division Chief will make final application selections, taking into consideration the results of the reviewers' evaluations, including rank; the compilation of a slate that, when taken as a whole, is likely to best further the program interests described in the Program Description section above; and the availability of funds. The final approval of selected applications and award of financial assistance will be made by the NIST Grants Officer based on compliance with application requirements as published in this notice and the FFO, compliance with applicable legal and regulatory requirements, and whether the recommended applicants appear to be responsible.

Applicants may be asked to modify objectives, work plans, or budgets and provide supplemental information required by the agency prior to award.

The decisions of the Grants Officer are final.

Unsuccessful applicants will be notified in writing. The Program will retain one copy of each unsuccessful application for three years for record keeping purposes. The remaining copies will be destroyed.

Evaluation Criteria: For the Physics Laboratory Grants Program, the evaluation criteria the technical reviewers will use in evaluating the proposals are as follows:

1. Rationality. Reviewers will consider the coherence of the applicant's approach and the extent to which the proposal effectively addresses scientific and technical issues that are relevant to Physics Laboratory programs.

2. Qualifications of Technical Personnel. Reviewers will consider the professional accomplishments, skills, and training of the proposed personnel to perform the work in the project.

3. Resources Availability. Reviewers will consider the extent to which the proposer has access to the necessary facilities and overall support to accomplish project objectives.

4. Technical Merit of Contribution. Reviewers will consider the potential technical effectiveness of the proposal and the value it would contribute to the field of physics.

Each of these factors will be given equal weight in the evaluation process.

Cost Share Requirements: The Physics Laboratory Grants Program does not require any cost sharing or matching funds.

MSEL Grants Program

Program Description: The Materials Science and Engineering Laboratory (MSEL) Grants Program will provide grants and cooperative agreements in the following fields of research: Ceramics; Metallurgy; Polymers; and Materials Reliability. Specific information regarding program objectives can be found in the corresponding Federal Funding Opportunity for this announcement. Financial support may be provided for conferences, workshops, or other technical research may be provided for conferences, workshops, or other technical research meetings that are relevant to the mission of the MSEL.

Dates: Applications will be considered on a continuing basis. Applications received after June 1, 2010 may be processed and considered for funding under this solicitation in the current fiscal year or in the next fiscal year, subject to the availability of funds. All applications, paper and electronic, must be received prior to the publication date in the Federal Register of the FY 2011 solicitation for the NIST Measurement, Science and Engineering Research Grants Programs in order to be processed under this solicitation.

Addresses: Paper applications must be submitted to: Ms. Nancy Selepak, Materials Science and Engineering Laboratory, National Institute of Standards and Technology, 100 Bureau Drive, Stop 8500, Gaithersburg, Maryland 20899-8500. Electronic applications and associated proposal information should be uploaded to http://www.grants.gov.

For Further Information Contact: Program questions should be addressed to Ms. Nancy Selepak, Materials Science and Engineering Laboratory, National Institute of Standards and Technology, 100 Bureau Drive, Stop 8500, Gaithersburg, Maryland 20899-8500, Tel: (301) 975-2047 E-mail: nancy.selepak@nist.gov. Grants administration questions concerning this program should be addressed to: Christopher Hunton, NIST Grants and Agreements Management Division, (301) 975-5718; christopher.hunton@nist.gov. For assistance with using http://www.grants.gov, contact support@grants.gov or (800) 518-4726.

Electronic Access: Applicants are strongly encouraged to read the Federal Funding Opportunity (FFO) available at http://www.grants.gov for complete information about this program, all program requirements, and instructions for applying by paper or electronically. A paper copy of the FFO may be obtained by calling (301) 975-6328.

Funding Availability: In fiscal year 2009, the MSEL Grants Program funded 19 new awards, totaling $2,496,714. In fiscal year 2010, the MSEL Grants Program anticipates funding of approximately $4,600,000, including new awards and continuing projects. For FY 2010 most grants and cooperative agreements are expected to be in the $2,000 to $500,000 per year range.

For the MSEL Grants Program, proposals will be considered for research projects from one to five years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the MSEL Grants Program, and the availability of funds. The multi-year awards must have scopes of work that can be easily separated into annual increments of meaningful work that represent solid accomplishments if prospective funding is not made available to the applicant (i.e., the scopes of work for each funding period must produce identifiable and meaningful results in and of themselves).

Statutory Authority: As authorized under 15 U.S.C. 272(b) and (c), the MSEL conducts a basic and applied research program directly and through grants and cooperative agreements to eligible recipients.

Eligibility: The MSEL Grants Program is open to institutions of higher education; hospitals; non-profit organizations; commercial organizations; State, local, and Indian Tribal governments; foreign governments; organizations under the jurisdiction of foreign governments; and international organizations.

Review and Selection Process: For the MSEL Grants Program proposals will be reviewed in a two-step process. If a preliminary review determines that the proposal is incomplete or non-responsive to the scope of the stated objectives, the proposal will not be reviewed for technical merit. One copy of any such proposal will be retained for record keeping purposes for three years and all remaining copies will be destroyed. All applications that are complete and responsive to the solicitation will be reviewed for technical merit using the following process.

First, at least three independent, objective individuals knowledgeable in the particular scientific area addressed by the proposal will conduct a technical review. Proposals are received and will be reviewed on a rolling basis based on the evaluation criteria. If non-Federal reviewers are used, the reviewers may discuss the proposals with each other, but scores will be determined on an individual basis, not as a consensus. Second, the Division Chief or Laboratory Deputy Director will make application selections. In making application selections, the Division Chief or Laboratory Deputy Director will take into consideration the results of the reviewers' evaluations, the availability of funds, and relevance to the objectives of the MSEL Grants Program, described in the Program Description section of the FFO. For applications for funding for conferences, workshops, or other technical research meetings, the Division Chief or Laboratory Deputy Director will also take into consideration whether they align with ongoing MSEL programmatic activities. The final approval of selected applications and award of financial assistance will be made by the NIST Grants Officer based on compliance with application requirements as published in this notice and the FFO, compliance with applicable legal and regulatory requirements, and whether the recommended applicants appear to be responsible. Applicants may be asked to modify objectives, work plans, or budgets and provide supplemental information required by the agency prior to award. The decision of the Grants Officer is final.

Unsuccessful applicants will be notified in writing. The Program will retain one copy of each unsuccessful application for three years for record keeping purposes. The remaining copies will be destroyed.

Evaluation Criteria: For the MSEL Grants Program, the evaluation criteria the technical reviewers will use in evaluating the proposals are as follows:

1. Rationality. Reviewers will consider the coherence of the applicant's approach and the extent to which the proposal effectively addresses scientific and technical issues.

2. Qualifications of Technical Personnel. Reviewers will consider the professional accomplishments, skills, and training of the proposed personnel to perform the work in the project.

3. Resources Availability. Reviewers will consider the extent to which the proposer has access to the necessary facilities and overall support to accomplish project objectives.

4. Technical Merit of Contribution. Reviewers will consider the potential technical effectiveness of the proposal and the value it would contribute to the field of materials science and engineering. Proposals must be relevant to current MSEL research and have a relation to the objectives of ongoing MSEL programs and activities.

Each of these factors will be given equal weight in the evaluation process.

Cost Share Requirements: The MSEL Grants Program does not require any cost sharing or matching funds.

Building Research Grants and Cooperative Agreements Program

Program Description: The Building Research Grants and Cooperative Agreements Program will provide grants and cooperative agreements in the following fields of research: Structures, Construction Metrology and Automation, Inorganic Materials, Polymeric Materials, HVAC & R Equipment Performance, Mechanical Systems and Controls, Heat Transfer and Alternative Energy Systems, Computer Integrated Building Processes, Indoor Air Quality and Ventilation, the National Earthquake Hazard Reduction Program, and Building Economics. Financial support may be provided for conferences, workshops, or other technical research meetings that are relevant to the mission of the Building and Fire Research Laboratory.

The Building Research Grants and Cooperative Agreements Program supports the formal mission of the Building and Fire Research Laboratory, which is to promote U.S. innovation and competitiveness by anticipating and meeting the measurement science, standards and technology needs of the U.S. building and fire safety industries in ways that enhance economic security and improve the quality of life. All proposals submitted must be in accordance with the program objectives found in the corresponding Federal Funding Opportunity for this announcement.

Dates: Applications will be considered on a continuing basis. Applications received after June 1, 2010 may be processed and considered for funding under this solicitation in the current fiscal year or in the next fiscal year, subject to the availability of funds. All applications, paper and electronic, must be received prior to the publication date in the Federal Register of the FY 2011 solicitation for the NIST Measurement Science and Engineering Research Grants Programs in order to be processed under this solicitation.

Addresses: Paper applications must be submitted to: Karen Perry, Building and Fire Research Laboratory, National Institute of Standards and Technology, 100 Bureau Drive, Stop 8602, Gaithersburg, MD 20899-8602. Electronic applications and associated proposal information should be uploaded to http://www.grants.gov.

For Further Information Contact: Program questions should be addressed to Karen Perry, Building and Fire Research Laboratory, National Institute of Standards and Technology, 100 Bureau Drive, Stop 8602, Gaithersburg, MD 20899-8602, Tel.: (301) 975-5910, karen.perry@nist.gov, Fax: (301) 975-4032, and Web site http://www.bfrl.nist.gov. Grants administration questions concerning this program should be addressed to: Christopher Hunton, NIST Grants and Agreements Management Division, (301) 975-5718; christopher.hunton@nist.gov. For assistance with using http://www.grants.gov, contact support@grants.gov or (800) 518-4726.

Electronic Access: Applicants are strongly encouraged to read the Federal Funding Opportunity (FFO) available at http://www.grants.gov for complete information about this program, all program requirements, and instructions for applying by paper or electronically. A paper copy of the FFO may be obtained by calling (301) 975-6328.

Funding Availability: In fiscal year 2009, the Building Research Grants and Cooperative Agreements Program funded 18 new awards, totaling $1,953,509. No funds have been set aside specifically for the Building Research Grants and Cooperative Agreements Program. The availability of funds depends upon actual authorization of funds and other costs expected to be incurred by the individual divisions. The amount available each year fluctuates considerably based on programmatic needs. For FY 2010 awards are expected to range between $5,000 and $500,000.

For the Building Research Grants and Cooperative Agreements Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Building Research Grants and Cooperative Agreements Program, and the availability of funds. The multi-year awards must have scopes of work that can be easily separated into annual increments of meaningful work that represent solid accomplishments if prospective funding is not made available to the applicant (i.e., the scopes of work for each funding period must produce identifiable and meaningful results in and of themselves).

Statutory Authority: As authorized by 15 U.S.C. 272(b) and (c) and 42 U.S.C. 7704, the NIST Building and Fire Research Laboratory conducts a basic and applied research program directly and through grants and cooperative agreements to eligible recipients.

Eligibility: The Building Research Grants and Cooperative Agreements Program is open to institutions of higher education; hospitals; non-profit organizations; commercial organizations; State, local, and Indian Tribal governments; foreign governments; organizations under the jurisdiction of foreign governments; and international organizations.

Review and Selection Process: For the Building Research Grants and Cooperative Agreements Program proposals will be reviewed in a two-step process. If a preliminary review determines that the proposal is incomplete or non-responsive to the scope of the stated objectives, the proposal will not be reviewed for technical merit. One copy of each such proposal will be retained for record keeping purposes for three years and all remaining copies will be destroyed.

All applications that are complete and responsive to the solicitation will be reviewed for technical merit using the following process.

First, at least three independent, objective individuals knowledgeable about the particular scientific area addressed by the proposal will conduct a technical review. Proposals are received and will be reviewed on a rolling basis based on the evaluation criteria listed in the Evaluation Criteria section below. If non-Federal reviewers are used, reviewers may discuss the proposals with each other, but scores will be determined on an individual basis, not as a consensus. Second, the Division Chief or Laboratory Director or Deputy Director will take into consideration the results of the reviewers' evaluation, the availability of funds, and relevance to the objectives described in the Program Description section of the FFO.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The award decision of the Grants Officer is final. Applicants should allow up to 90 days processing time.

Unsuccessful applicants will be notified in writing. The Program will retain one copy of each unsuccessful application for three years for record keeping purposes. The remaining copies will be destroyed.

Evaluation Criteria: The Divisions of the Building and Fire Research Laboratory will score proposals based on the following criteria and weights:

1. Technical quality of the research. Reviewers will assess the rationality, innovation and imagination of the proposal and the fit to NIST's in-house building research programs. (0-35 points).

2. Potential impact of the results. Reviewers will assess the potential impact and the technical application of the results. (0-25 points).

3. Staff and institution capability to do the work. Reviewers will evaluate the quality of the facilities and experience of the staff to assess the likelihood of achieving the objective of the proposal. (0-20 points).

4. Match of budget to proposed work. Reviewers will assess the budget against the proposed work to ascertain the reasonableness of the request. (0-20 points).

Cost Share Requirements: The Building Research Grants and Cooperative Agreements Program does not require any cost sharing or matching funds.

Fire Research Grants Program

Program Description: The Fire Research Grants Program will provide funding through grants and cooperative agreements to support the conduct of research or a recipient's portion of collaborative research in areas of current interest to the Building and Fire Research Laboratory. For details on current fire research activities, please see the Building and Fire Research Laboratory Web site at http://www.bfrl.nist.gov. Specific information regarding program objectives can be found in the corresponding Federal Funding Opportunity for this announcement. Financial support may be provided for conferences, workshops, or other technical meetings that are relevant to the objectives of the Fire Research Grants Program.

Dates: For the Fire Research Grants Program, applications received by January 15, 2010 will be processed and considered for funding under this solicitation in the current fiscal year. Applications received after January 15, 2010 may be processed and considered for funding under this solicitation in the current fiscal year or in the next fiscal year, subject to the availability of funds. Applications, paper and electronic, must be received prior to the publication date in the Federal Register of the FY 2011 solicitation for the NIST Measurement Science and Engineering Research Grants Programs in order to be processed under this solicitation.

Addresses: Paper applications must be submitted to: Ms. Wanda Duffin-Ricks, Building and Fire Research Laboratory (BFRL), National Institute of Standards and Technology, 100 Bureau Drive, Stop 8660, Gaithersburg, Maryland 20899-8660. Electronic applications and associated proposal information should be uploaded to http://www.grants.gov.

For Further Information Contact: Program questions should be addressed to Ms. Wanda Duffin-Ricks, Building and Fire Research Laboratory (BFRL), National Institute of Standards and Technology, 100 Bureau Drive, Stop 8660, Gaithersburg, Maryland 20899-8660, Tel: (301) 975-6863, E-mail: wanda.duffin@nist.gov, Web site: http://www.bfrl.nist.gov. Grants administration questions concerning this program should be addressed to: Christopher Hunton, NIST Grants and Agreements Management Division, (301) 975-5718; christopher.hunton@nist.gov. For assistance with using http://www.grants.gov, contact support@grants.gov or (800) 518-4726.

Electronic Access: Applicants are strongly encouraged to read the Federal Funding Opportunity (FFO) available at http://www.grants.gov for complete information about this program, all program requirements, and instructions for applying by paper or electronically. A paper copy of the FFO may be obtained by calling (301) 975-6328.

Funding Availability: For the Fire Research Grants Program, the annual budget is approximately $1.0 to $1.5 million. Because of commitments for the support of multi-year projects and because proposals may have been deferred from the previous year's competition, only a portion of the budget is available to fund applications received in response to this notice. For FY 2010 most grants and cooperative agreements are in the $25,000 to $125,000 per year range, with a maximum requested duration of three years. In fiscal year 2009, the Fire Research Grants Program funded 4 new awards, totaling $337,406.

For the Fire Research Grants Program, proposals will be considered for research projects from one to three years. When a proposal for a multi-year project is approved, funding will generally be provided for only the first year of the program. If an application is selected for funding, NIST has no obligation to provide any additional future funding in connection with that award. Continuation of an award to increase funding or extend the period of performance is at the total discretion of NIST. Funding for each subsequent year of a multi-year proposal will be contingent on satisfactory progress, continuing relevance to the mission of the Fire Research Grants Program, and the availability of funds. The multi-year awards must have scopes of work that can be easily separated into annual increments of meaningful work that represent solid accomplishments if prospective funding is not made available to the applicant (i.e., the scopes of work for each funding period must produce identifiable and meaningful results in and of themselves).

Statutory Authority: As authorized by 15 U.S.C. 278f, the NIST Building and Fire Research Laboratory conducts directly and through grants and cooperative agreements, a basic and applied fire research program.

Eligibility: The Fire Research Grants Program is open to institutions of higher education; hospitals; non-profit organizations; commercial organizations; State, local, and Indian Tribal governments; foreign governments; organizations under the jurisdiction of foreign governments; and international organizations.

Review and Selection Process: Prospective proposers are encouraged to contact the group leaders listed in the FFO announcement to determine the responsiveness of the proposal and compliance with program objectives prior to preparation of a detailed proposal; however, written pre-proposals and white papers are not solicited and will not be reviewed for other than informational purposes. Responsive proposals will be assigned to the most appropriate group and reviewed as received on a rolling basis. If it is determined that the proposal is incomplete or non-responsive to the scope of the stated objectives, the proposal will not be reviewed for technical merit. One copy of any such proposal will be retained for record keeping purpose for three years and all remaining copies will be destroyed. Proposals are evaluated for technical merit based on the evaluation criteria described below by at least three reviewers chosen from NIST professionals, technical experts from other interested government agencies, and experts from the fire research community at large. When non-Federal reviewers are used, reviewers may discuss the proposals with each other, but scores will be determined on an individual basis, not as a consensus.

A Review Panel, consisting of group leaders and the Deputy Division Chief, will make funding recommendations to the Selecting Official (the Fire Research Division Chief). In making recommendations for application selections, the Review Panel and the Selecting Official will consider the results of the reviewers' evaluations, the scores of the reviewers, the availability of funds, program balance, and the relevance to the objectives of the Fire Research Grants Program, as described in the Program Description section of the FFO and at the Building and Fire Research Laboratory Web site at http://www.bfrl.nist.gov.

The final approval of selected applications and award of financial assistance will be made by the NIST Grants Officer based on compliance with application requirements as published in this notice and the FFO, compliance with applicable legal and regulatory requirements, and whether the recommended applicants appear to be responsible. Applicants may be asked to modify objectives, work plans, or budgets and provide supplemental information required by the agency prior to award. The award decision of the Grants Officer is final. Applicants should allow up to 90 days processing time.

Proposals submitted to another agency will be considered for possible joint funding if approved by the other agency.

Initial review of the proposal will consider completeness and responsiveness of the proposal to the program requirements. Proposals on product development and commercialization are not considered responsive to this solicitation.

Unsuccessful applicants will be notified in writing. The Program will retain one copy of each unsuccessful application for three years for record keeping purposes. The remaining copies will be destroyed.

Evaluation Criteria: For the Fire Research Grants Program, the technical evaluation criteria are as follows:

1. Technical quality of the research. Reviewers will assess the clarity, rationality, organization and innovation of the proposed work. (0-40 points).

2. Potential impact of the results. Reviewers will assess the potential impact and the technical application of the results to address aspects of the national fire problem. (0-40 points).

3. Staff and institution capability to do the work. Reviewers will evaluate the quality of the facilities and experience of the staff to assess the likelihood of achieving the objective of the proposal. (0-10 points).

4. Match of budget to proposed work. Reviewers will assess the budget against the proposed work to ascertain the reasonableness of the request. (0-10 points).

Cost Share Requirements: The Fire Research Grants Program does not require any cost sharing or matching funds.

Information Technology Laboratory (ITL) Grants Program

Program Description: The Information Technology Laboratory Grants Program will provide grants and cooperative agreements in the broad areas of mathematical and computational sciences, advanced network technologies, information access, and software testing. Specific objectives of interest in these areas of research include: Quantum information theory, computational materials science, network science, mathematical foundations of measurement science for information systems, mathematical knowledge management, visual data analysis, verification and validation of computer models, computational biology, semantic data integration, software testing, biometrics, human language technology, interactive systems, multimedia technology, human factors/security/core requirements/testing of voting systems, information visualization, systems biology, grid computing, service oriented architecture and complex systems, security for the IPv6 transition from and coexistence with IPv4, and device mobility among heterogeneous networks. For details on these various activities, please see the Information Technology Laboratory Web site at http://www.itl.nist.gov. Specific information regarding program objectives can be found in the corresponding Federal Funding Opportunity for this announcement. Financial support may be provided for conferences, workshops, or other technical research meetings that are relevant to the mission of the Information Technology Laboratory.

Dates: Applications will be considered on a continuing basis. Applications received after June 1, 2010 may be processed and considered for funding under this solicitation in the current fiscal year or in the next fiscal year, subject to the availability of funds. All applications, paper and electronic, must be received prior to the publication date in the Federal Register of the FY 2011 solicitation for the NIST Measurement, Science and Engineering Research Grants Programs in order to be processed under this solicitation.

Addresses: Paper applications must be submitted to: Gerlinde Harr, Information Technology Laboratory (ITL), National Institute of Standards and Technology, 100 Bureau Drive, Stop 8900, Gaithersburg, Maryland 20899-8900. Electronic applications and associated proposal information should be uploaded to http://www.grants.gov.

For Further Information Contact: Program questions should be addressed to Gerlinde Harr, Information Technology Laboratory (ITL), National Institute of Standards and Technology, 100 Bureau Drive, Stop 8900, Gaithersburg, MD 20899-8900, Tel.: (301) 975-2901, e-mail gharr@nist.gov, Fax: (301) 975-2378, Web site: http://www.itl.nist.gov. It is strongly suggested to first confirm the program objectives with the Program Manager prior to preparing a detailed proposal. Contact the Information Technology Laboratory Grant Program Manager: Kamie Roberts, (301) 975-2901, kroberts@nist.gov for clarification of the program objectives. Grants administration questions concerning this program should be addressed to: Christopher Hunton, NIST Grants and Agreements Management Division, (301) 975-5718; christopher.hunton@nist.gov. For assistance with using http://www.grants.gov, contact support@grants.gov or (800) 518-4726.

Electronic Access: Applicants are strongly encouraged to read the Federal Funding Opportunity (FFO) available at http://www.grants.gov for complete information about this program, all program requirements, and instructions for applying by paper or electronically. A paper copy of the FFO may be obtained by calling (301) 975-6328.

Funding Availability: In fiscal year 2009, the Information Technology Laboratory funded 8 new awards, totaling $797,226. No funds have been set aside specifically for the Information Technology Laboratory Grants Program. The availability of funds depends upon actual authorization of funds and other costs expected to be incurred by the individual divisions. The amount available each year fluctuates considerably based on programmatic needs. For FY 2010 individual awards are expected to range between $10,000 and $500,000.

For the Information Technology Laboratory Grants Program, proposals will be considered for research projects from one to five years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Information Technology Laboratory Grants Program, and the availability of funds. The multi-year awards must have scopes of work that can be easily separated into annual increments of meaningful work that represent solid accomplishments if prospective funding is not made available to the applicant (i.e., the scopes of work for each funding period must produce identifiable and meaningful results in and of themselves).

Statutory Authority: As authorized under 15 U.S.C. 272(b) and (c) and 42 U.S.C. 15361(e), the ITL conducts a basic and applied research program directly and through grants and cooperative agreements to eligible recipients.

Eligibility: The ITL Grants Program is open to institutions of higher education; hospitals; non-profit organizations; commercial organizations; State, local, and Indian Tribal governments; foreign governments; organizations under the jurisdiction of foreign governments; and international organizations.

Review and Selection Process: For the Information Technology Laboratory (ITL) Grants Program, proposals will be reviewed in a three-step process. First, the ITL Grants Coordinator, the Deputy Director of ITL, or the corresponding Division Chief will determine the compatibility of the applicant's proposal with ITL Program Areas and the relevance to the objectives of the ITL Grants Program, described in the Program Description section of this announcement and the FFO. If a proposal is determined to be incomplete or non-responsive, or if it is determined that all available funds have been exhausted, the proposal will not be reviewed for technical merit. One copy of any such proposal will be retained for record keeping purposes for three years and all remaining copies will be destroyed. Proposers may contact ITL at 301-975-2901 to find out if funds have been exhausted for the fiscal year. ITL will also post a notice on its Web site, http://www.itl.nist.gov, when funds are exhausted for the fiscal year. ITL will notify proposers in writing if their proposals are not reviewed for technical merit.

Second, at least three independent, objective individuals knowledgeable about the particular measurement science area described in the section above that the proposal addresses will conduct a technical review of each proposal, based on the published evaluation criteria. Reviews will be conducted on a rolling basis as proposals are received. If non-Federal reviewers are used, the reviewers may discuss the proposals with each other, but scores will be determined on an individual basis, not as a consensus.

Third, the Division Chief, in accord with the Director of ITL, will make application selections, taking into consideration the results of the reviewers' evaluations, the availability of funds, and relevance to the objectives or research areas described in the Program Description section above.

The final approval of selected applications and award of financial assistance will be made by the NIST Grants Officer based on compliance with application requirements as published in this notice and the FFO, compliance with applicable legal and regulatory requirements, and whether the recommended applicants appear to be responsible. Applicants may be asked to modify objectives, work plans, or budgets and provide supplemental information required by the agency prior to award. The decisions of the Grants Officer are final.

Unsuccessful applicants will be notified in writing. The Program will retain one copy of each unsuccessful application for three years for record keeping purposes. The remaining copies will be destroyed.

Evaluation Criteria: For the ITL Grants Program, the evaluation criteria the technical reviewers will use in evaluating the proposals are as follows:

1. Rationality. Reviewers will consider the coherence of the applicant's approach and the extent to which the proposal effectively addresses scientific and technical issues.

2. Technical Merit of Contribution. Reviewers will consider the potential technical effectiveness of the proposal and the value it would contribute to the field of information technology research.

3. Qualifications of Technical Personnel. Reviewers will consider the professional accomplishments, skills, and training of the proposed personnel to perform the work in the project.

4. Resources Availability. Reviewers will consider the extent to which the proposer has access to the necessary facilities and overall support to accomplish project objectives. Each of these factors will be given equal weight in the evaluation process.

Cost Share Requirements: The ITL Grants Program does not require any cost sharing or matching funds.

NIST Center for Neutron Research (NCNR) Grants Program

Program Description: The NIST Center for Neutron Research (NCNR) Grants Program will provide grants and cooperative agreements for research involving neutron scattering and the development of innovative technologies that advance the state-of-the-art in neutron research. Specific information regarding program objectives can be found in the corresponding Federal Funding Opportunity to this announcement. Financial support may be provided for conferences, workshops, or other technical research meetings that are relevant to the mission of the NCNR.

All proposals submitted to the NCNR Grants Program must be in accordance with the program objectives. These are to create novel approaches to advance high resolution cold and thermal neutron scattering research; to develop new applications of neutron scattering to physics, chemistry, and macromolecular and materials research; and to support the development of innovative technologies relevant to neutron research, including, for example, high resolution two-dimensional neutron detectors, neutron monochromators, and neutron focusing and polarizing devices. Awards to universities to help to promote research by university students at the NIST/NSF Center for High Resolution Scattering are also funded under this program.

Dates: Applications will be considered on a continuing basis. Applications received after June 1, 2010 may be processed and considered for funding under this solicitation in the current fiscal year or in the next fiscal year, subject to the availability of funds. All applications, paper and electronic, must be received prior to the publication date in the Federal Register of the FY 2011 solicitation for the NIST Measurement, Science and Engineering Research Grants Programs in order to be processed under this solicitation.

Addresses: Paper applications must be submitted to: Ms. Tanya Burke, NIST Center for Neutron Research, National Institute of Standards and Technology, 100 Bureau Drive, Stop 6100, Gaithersburg, Maryland 20899-6100. Electronic applications and associated proposal information should be uploaded to http://www.grants.gov.

For Further Information Contact: Program questions should be addressed to Dr. Dan Neumann, NIST Center for Neutron Research, National Institute of Standards and Technology, 100 Bureau Drive, Stop 6102, Gaithersburg, Maryland 20899-6102, Tel: (301) 975-5252, E-mail: dan.neumann@nist.gov. Grants administration questions concerning this program should be addressed to: Christopher Hunton, NIST Grants and Agreements Management Division, (301) 975-5718; christopher.hunton@nist.gov. For assistance with using http://www.grants.gov, contact support@grants.gov or (800) 518-4726.

Electronic Access: Applicants are strongly encouraged to read the Federal Funding Opportunity (FFO) available at http://www.grants.gov for complete information about this program, all program requirements, and instructions for applying by paper or electronically. A paper copy of the FFO may be obtained by calling (301) 975-6328.

Funding Availability: In fiscal year 2009, the NCNR Grants Program made one award in the amount of $25,000. In fiscal year 2010, the Program anticipates funding of approximately $300,000, including new awards and continuing projects. For FY 2010 individual awards are expected to range from approximately $25,000 to $100,000 per year.

The NCNR Grants Program will consider proposals lasting from one to five years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the NCNR Grants Program, and the availability of funds. The multi-year awards must have scopes of work that can be easily separated into annual increments of meaningful work that represent solid accomplishments if prospective funding is not made available to the applicant (i.e., the scopes of work for each funding period must produce identifiable and meaningful results in and of themselves).

Statutory Authority: As authorized under 15 U.S.C. 272(b) and (c), the NCNR conducts a basic and applied research program directly and through grants and cooperative agreements to eligible recipients.

Eligibility: The NCNR Grants Program is open to institutions of higher education; hospitals; non-profit organizations; commercial organizations; State, local, and Indian Tribal governments; foreign governments; organizations under the jurisdiction of foreign governments; and international organizations.

Review and Selection Process: Proposals submitted to the NCNR Grants Program will be reviewed in a two-step process. If a preliminary review determines that the proposal is incomplete or non-responsive to the scope of the stated objectives, the proposal will not be reviewed for technical merit. One copy of any such proposal will be retained for record keeping purposes for three years and all remaining copies will be destroyed. All applications that are complete and responsive to the solicitation will be reviewed for technical merit using the following process.

First, at least three independent, objective individuals knowledgeable about the particular scientific area described in the Program Description section above that the proposal addresses will conduct a technical review of proposals, as they are received on a rolling basis, based on the evaluation criteria. If non-Federal reviewers are used, the reviewers may discuss the proposals with each other, but scores will be determined on an individual basis, not as a consensus.

Second, the Center Director will make application selections. In making application selections, the Center Director will take into consideration the results of the reviewers' evaluations, the availability of funds, and relevance to the objectives of the NCNR Grants Program, described in the Program Description section and the FFO. The final approval of selected applications and award of financial assistance will be made by the NIST Grants Officer based on compliance with application requirements as published in this notice and the FFO, compliance with applicable legal and regulatory requirements, and whether the recommended applicants appear to be responsible. Applicants may be asked to modify objectives, work plans, or budgets and provide supplemental information required by the agency prior to award. The decision of the Grants Officer is final.

Unsuccessful applicants will be notified in writing. The Program will retain one copy of each unsuccessful application for three years for record keeping purposes. The remaining copies will be destroyed.

Evaluation Criteria: The NCNR Grants Program evaluation criteria that the technical reviewers will use in evaluating the proposals are as follows:

1. Rationality. Reviewers will assess the innovation, rationality, and coherence of the applicant's approach and the extent to which the proposal effectively addresses important scientific and technical issues using neutron methods and/or the development of innovative devices for neutron research. (0 to 35 points).

2. Qualifications of Technical Personnel. Reviewers will consider the professional accomplishments, skills, and training of the proposed personnel to perform the work in the project. (0 to 20 points).

3. Resources. Reviewers will consider the extent to which the proposer has access to the necessary resources, facilities, and overall support to accomplish project objectives, and will assess the budget against the proposed work to ascertain the reasonableness of the request. (0 to 20 points).

4. Technical Merit of Contribution. Reviewers will consider the potential technical effectiveness of the proposal and the value it would contribute to neutron research. (0 to 25 points).

Cost Share Requirements: The NCNR Grants Program does not require any cost sharing or matching funds.

Center for Nanoscale Science and Technology (CNST) Grants and Cooperative Agreements Program

Program Description: The Center for Nanoscale Science and Technology (CNST) Grants and Cooperative Agreements Program will offer financial assistance in the field of nanotechnology specifically aimed at developing essential measurement and fabrication methods, standards, and technology in support of all phases of nanotechnology development, from discovery to production, conducting collaborative research with NIST scientists, including research at the CNST Nanofab, a national shared-use facility for nanofabrication and measurement; and supporting researchers visiting the CNST. Financial support may be provided for conferences, workshops, or other technical research meetings, or fellowships that are relevant to the mission of the CNST. In proposals for fellowships, applicants and team members must possess the education, experience, and training to effectively pursue and advance the proposed field of research. In some cases one or more scientific staff members, including undergraduate or graduate students, may be stationed at NIST in order to work in collaboration with NIST and other visiting scientists.

The primary program objectives of the financial assistance program in CNST are to develop new measurement and fabrication methods, instrumentation, and standards for nanotechnology; and to explore a variety of new areas of nanoscale science and technology. Broad areas of interest include post complementary metal oxide semiconductor electronics; nanofabrication and nanomanufacturing; energy transport, storage, and conversion; and bionanotechnology. Specific areas of interest include atomic-scale characterization and manipulation; scanning and transmission electron microscopy; focused ion beams; laser-atom manipulation; nanophotonic; nanoplasmonics; optical micro- and nanoelectromechanical systems (MEMS and NEMS); nanomagnetic imaging and dynamics; nanolithography; nanofabrication process development; directed self-assembly; nanoscale properties of soft matter; nanoscale stochastic processes; nanoscale control theory; nanoscale electronic and ionic transport; light-matter interaction, charge and energy transfer processes, catalytic activity, and interfacial structure in energy-related devices (including photovoltaics, thermoelectric, photoanodes, fuel cells, batteries, supercapacitors, and field emitters); nanobiosensors; nanofluidics; nanomedicine; and theory, modeling, and simulation of nanostructures. Additional objectives of this program are to assist and train CNST collaborators and NanoFab users in their research; and to conduct other outreach and educational activities that advance the development of nanotechnology by U.S. university and industrial scientists. Additional objectives of this program are to assist and train CNST collaborators and Nanofab users in their research; and to conduct other outreach and educational activities that advance the development of nanotechnology by U.S. university and industrial scientists. These objectives will entail collaborative research among the selected financial assistance recipients and CNST research staff. Specific information regarding program objectives can be found in the corresponding Federal Funding Opportunity to this announcement.

Dates: Applications will be considered on a continuing basis. Applications received after June 1, 2010 may be processed and considered for funding under this solicitation in the current fiscal year or in the next fiscal year, subject to the availability of funds. All applications, paper and electronic, must be received prior to the publication date in the Federal Register of the FY 2011 solicitation for the NIST Measurement, Science and Engineering Research Grants Programs in order to be processed under this solicitation.

Addresses: Paper applications must be submitted to: Donna Lauren, Center for Nanoscale Science and Technology, National Institute of Standards and Technology, 100 Bureau Drive, Stop 6200, Gaithersburg, Maryland 20899-6200. Electronic applications and associated proposal information should be uploaded to grants.gov.

For Further Information Contact: Program questions should be addressed to Donna Lauren, Center for Nanoscale Science and Technology, National Institute of Standards and Technology, 100 Bureau Drive, Stop 6200, Gaithersburg, Maryland 20899-6200. Tel (301) 975-3729, E-Mail: donna.lauren@nist.gov. Grants administration questions concerning this program should be addressed to: Christopher Hunton, NIST Grants and Agreements Management Division, (301) 975-5718; christopher.hunton@nist.gov. For assistance with using Grants.gov contact support@grants.gov or (800) 518-4726.

Electronic Access: Applicants are strongly encouraged to read the Federal Funding Opportunity (FFO) available at http://www.grants.gov for complete information about this program, all program requirements, and instructions for applying by paper or electronically. A paper copy of the FFO may be obtained by calling (301) 975-6328.

Funding Availability: In fiscal year 2009, the CNST Grants and Cooperative Agreements Program made no new awards. In fiscal year 2010, the CNST Grants and Cooperative Agreements Program anticipates funding of approximately $1,200,000, including new awards and continuing projects. For FY 2010 individual awards are expected to range from approximately $250,000 to $1,500,000 per year.

For the Center for Nanoscale and Science and Technology Grants and Cooperative Agreements Program, proposals will be considered for research projects from one to five years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Center for Nanoscale Science and Technology Grants and Cooperative Agreements Program, and the availability of funds. The multi-year awards must have scopes of work that can be easily separated into annual increments of meaningful work that represent solid accomplishments if prospective funding is not made available to the applicant (i.e., the scopes of work for each funding period must produce identifiable and meaningful results in and of themselves).

Statutory Authority: .As authorized under 15 U.S.C. 272(b) and (c) and 15 U.S.C. 7501 et seq., the CNST conducts a basic and applied research program directly and through grants and cooperative agreements to eligible recipients.

Eligibility: The Center for Nanoscale Science and Technology Grants and Cooperative Agreements Program is open to institutions of higher education; hospitals; non-profit organizations; commercial organizations; State, local, and Indian Tribal governments; foreign governments; organizations under the jurisdiction of foreign governments; and international organizations.

Review and Selection Process: For the Center for Nanoscale Science and Technology (CNST) Grants and Cooperative Agreements Program, responsive proposals will be assigned, as received on a rolling basis, to the most appropriate area for review. Proposals will be reviewed on a rolling basis in a two-step process. First, the CNST Deputy Director will determine the applicability of the proposal with regard to CNST programs and the relevance of the proposal's objectives to current CNST research. If it is determined that the proposal is incomplete or nonresponsive to the scope of the stated objectives, the proposal will not be reviewed for technical merit. One copy of any such proposal will be retained for record keeping purposes for three years and all remaining copies will be destroyed. CNST will notify proposers in writing if their proposals are not reviewed for technical merit. Second, if the proposal passes the first step, at least three independent, objective individuals knowledgeable about the particular scientific area addressed by the proposal will conduct a technical review based on the evaluation criteria. If non-Federal reviewers are used, the reviewers may discuss the proposal with each other, but scores will be determined on an individual basis, not as a consensus.

The CNST Director will make application selections from the grants and cooperative agreement proposals submitted. In making the application selections, the CNST Director will take into consideration the results of the reviewers' evaluations, the availability of funds, and relevance to the objectives of the CNST Grants and Cooperative Agreements Program. These objectives are described above in the Program Description section.

The final approval of selected applications and award of financial assistance will be made by the NIST Grants Officer based on compliance with application requirements as published in this notice and the FFO, compliance with applicable legal and regulatory requirements, and whether the recommended applicants appear to be responsible. Applicants may be asked to modify objectives, work plans, or budgets and provide supplemental information required by the agency prior to award. The decision of the Grants Officer is final.

Unsuccessful applicants will be notified in writing. The Program will retain one copy of each unsuccessful application for three years for record keeping purposes. The remaining copies will be destroyed.

Evaluation Criteria: For the Center for Nanoscale Science and Technology (CNST) Grants and Cooperative Agreements Program, the technical reviewers will use the following evaluation criteria in evaluating the proposals:

1. Rationality. Reviewers will consider the coherence of the applicant's approach and the extent to which the proposal effectively addresses scientific and technical issues.

2. Qualifications of Technical Personnel. Reviewers will consider the professional accomplishments, skills, and training of the proposed personnel to perform the work in this project.

3. Resources Availability. Reviewers will consider the extent to which the proposer has access to the necessary facilities and overall support to accomplish project objectives.

4. Technical Merit of Contribution. Reviewers will consider the potential technical effectiveness of the proposal and the value it would contribute to the field of nanotechnology.

All factors will be weighed equally.

Cost Share Requirements: The Center for Nanoscale Science and Technology (CNST) Grants and Cooperative Agreements Program does not require any cost sharing or matching funds.

Technology Services (TS) Grants Program

Program Description: The Technology Services Grants Program will provide grants and cooperative agreements in the broad areas of documentary standards and legal metrology. Specific objectives of interest in these areas include: evaluation of the impact of documentary standards on U.S. competitiveness and innovation as well as on topics related to health, safety and the environment as well as support for specific standards related activities, including development of Web-based information systems. Support for legal metrology will include grants to the States for: Purchase of specialized equipment required to conduct inspections and tests; purchase of specialized metrology laboratory equipment; purchase of software/hardware needed to collect data of inspection records/results; and conducting training schools for weights and measures field inspectors. For details on these various activities, please see the Technology Services Web site at http://www.ts.nist.gov. Financial support may be provided for conferences, workshops, or other technical research meetings that are relevant to the mission of Technology Services.

Dates: Applications will be considered on a continuing basis. Applications received after June 1, 2010 may be processed and considered for funding under this solicitation in the current fiscal year or in the next fiscal year, subject to the availability of funds. All applications, paper and electronic, must be received prior to the publication date in the Federal Register of the FY 2011 solicitation for the NIST Measurement, Science and Engineering Research Grants Programs in order to be processed under this solicitation.

Addresses: Paper applications must be submitted to: Deborah Anderson, Technology Services, National Institute of Standards and Technology, 100 Bureau Drive, Stop 2000, Gaithersburg, MD 20899-2000. Electronic applications and associated proposal information should be uploaded to grants.gov.

For Further Information Contact: Program questions should be addressed to Deborah Anderson, Technology Services, National Institute of Standards and Technology, 100 Bureau Drive, Stop 2000, Gaithersburg, MD 20899-2000, Tel.: (301) 975-5654, deborah.anderson@nist.gov, Fax: (301) 975-2183, and Web site http://www.ts.nist.gov. Grants administration questions concerning this program should be addressed to: Christopher Hunton, NIST Grants and Agreements Management Division, (301) 975-5718; christopher.hunton@nist.gov. For assistance with using Grants.gov contact support@grants.gov or (800) 518-4726.

Electronic Access: Applicants are strongly encouraged to read the Federal Funding Opportunity (FFO) available at http://www.grants.gov for complete information about this program, all program requirements, and instructions for applying by paper or electronically. A paper copy of the FFO may be obtained by calling (301) 975-6328.

Funding Availability: No funds have been set aside specifically for the Technology Services Grants and Cooperative Agreements Program. The availability of funds depends upon actual authorization of funds and other costs expected to be incurred by the individual divisions. The amount available each year fluctuates considerably based on programmatic needs. For FY 2010 individual awards are expected to range between $5,000 and $25,000.

For the Technology Services Grants and Cooperative Agreements Program, proposals will be considered for research projects with a duration of one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Technology Services Grants and Cooperative Agreements Program, and the availability of funds. The multi-year awards must have scopes of work that can be easily separated into annual increments of meaningful work that represent solid accomplishments if prospective funding is not made available to the applicant (i.e., the scopes of work for each funding period must produce identifiable and meaningful results in and of themselves).

Statutory Authority: 15 U.S.C. 272(b) and (c) and 15 U.S.C. 272a.

Eligibility: The Technology Services Grants and Cooperative Agreements Program is open to institutions of higher education; hospitals; non-profit organizations; commercial organizations; State, local, and Indian Tribal governments; foreign governments; organizations under the jurisdiction of foreign governments; and international organizations.

Review and Selection Process: For the Technology Services Grants and Cooperative Agreements Program proposals will be reviewed in a two-step process. If a preliminary review determines that the proposal is incomplete or non-responsive to the scope of the stated objectives, the proposal will not be reviewed for technical merit. One copy of any such proposal will be retained for record keeping purposes for three years and all remaining copies will be destroyed. All applications that are complete and responsive to the solicitation will be reviewed for technical merit. First, at least three independent and objective individuals knowledgeable in the particular area addressed by the proposal will conduct a technical review. Proposals are received and will be reviewed on a rolling basis based on the evaluation criteria listed in the Evaluation Criteria section below. If non-Federal reviewers are used, the reviewers may discuss the proposals with each other, but scores will be determined on an individual basis, not as a consensus. Second, the Division Chief or OU Director or OU Deputy Director will make funding recommendations, taking into consideration the results of the reviewers' evaluation, the availability of funds, and relevance to the objectives described in the Program Description section of the FFO.

The final approval of selected applications and award of financial assistance will be made by the NIST Grants Officer based on compliance with application requirements as published in this notice and the FFO, compliance with applicable legal and regulatory requirements, and whether the recommended applicants appear to be responsible. Applicants may be asked to modify objectives, work plans, or budgets and provide supplemental information required by the agency prior to award. The award decision of the Grants Officer is final. Applicants should allow up to 90 days processing time.

Unsuccessful applicants will be notified in writing. The Program will retain one copy of each unsuccessful application for three years for record keeping purposes. The remaining copies will be destroyed.

Evaluation Criteria: For the Technology Services Grants and Cooperative Agreements Program, the technical reviewers will score proposals based on the following criteria and weights:

1. Technical quality of the research. Reviewers will assess the rationality, innovation and imagination of the proposal and the fit to NIST's documentary standards and legal metrology programs. (0-35 points).

2. Potential impact of the results. Reviewers will assess the potential impact and the technical application of the results to NIST's in-house programs and the documentary standards and legal metrology communities. (0-25 points).

3. Staff and institution capability to do the work. Reviewers will evaluate the quality of the facilities and experience of the staff to assess the likelihood of achieving the objective of the proposal. (0-20 points).

4. Match of budget to proposed work. Reviewers will assess the budget against the proposed work to ascertain the reasonableness of the request. (0-20 points).

Cost Share Requirements: The Technology Services Grants and Cooperative Agreements Program does not require any cost sharing or matching funds.

The following information applies to all programs announced in this notice:

Initial Screening of all Applications: All applications received in response to this announcement will be reviewed to determine whether or not they are complete and responsive to the scope of the stated objectives for each program. Incomplete or non-responsive applications will not be reviewed for technical merit. The Program will retain one copy of each non-responsive application for three years for record keeping purposes. The remaining copies will be destroyed.

The Department of Commerce Pre-Award Notification Requirements for Grants and Cooperative Agreements: The Department of Commerce Pre-Award Notification Requirements for Grants and Cooperative Agreements, which are contained in the Federal Register Notice of February 11, 2008 (73 FR 7696), are applicable to this notice. On the form SF-424 items 8.b. and 8.c., the applicant's 9-digit Employer/Taxpayer Identification Number (EIN/TIN) and 9-digit Dun and Bradstreet Data Universal Numbering System (DUNS) number must be consistent with the information on the Central Contractor Registration (CCR) (http://www.ccr.gov) and Automated Standard Application for Payment System (ASAP). For complex organizations with multiple EIN/TIN and DUNS numbers, the EIN/TIN and DUNS numbers MUST be the numbers for the applying organization. Organizations that provide incorrect/inconsistent EIN/TIN and DUNS numbers may experience significant delays in receiving funds if their proposal is selected for funding. Please confirm that the EIN/TIN and DUNS number are consistent with the information on the CCR and ASAP.

Collaborations with NIST Employees: All applications should include a description of any work proposed to be performed by an entity other than the applicant, and the cost of such work should ordinarily be included in the budget.

If an applicant proposes collaboration with NIST, the statement of work should include a statement of this intention, a description of the collaboration, and prominently identify the NIST employee(s) involved, if known. Any collaboration by a NIST employee must be approved by appropriate NIST management and is at the sole discretion of NIST. Prior to beginning the merit review process, NIST will verify the approval of the proposed collaboration. Any unapproved collaboration will be stricken from the proposal prior to the merit review.

Use of NIST Intellectual Property: If the applicant anticipates using any NIST-owned intellectual property to carry out the work proposed, the applicant should identify such intellectual property. This information will be used to ensure that no NIST employee involved in the development of the intellectual property will participate in the review process for that competition. In addition, if the applicant intends to use NIST-owned intellectual property, the applicant must comply with all statutes and regulations governing the licensing of Federal government patents and inventions, described at 35 U.S.C. 200-212, 37 CFR part 401, 15 CFR 14.36, and in section B.21 of the Department of Commerce Pre-Award Notification Requirements 73 FR 7696 (Feb. 11, 2008). Questions about these requirements may be directed to the Chief Counsel for NIST, 301-975-2803.

Any use of NIST-owned intellectual property by a proposer is at the sole discretion of NIST and will be negotiated on a case-by-case basis if a project is deemed meritorious. The applicant should indicate within the statement of work whether it already has a license to use such intellectual property or whether it intends to seek one.

If any inventions made in whole or in part by a NIST employee arise in the course of an award made pursuant to this notice, the United States government may retain its ownership rights in any such invention. Licensing or other disposition of NIST's rights in such inventions will be determined solely by NIST, and include the possibility of NIST putting the intellectual property into the public domain.

Collaborations Making Use of Federal Facilities: All applications should include a description of any work proposed to be performed using Federal Facilities. If an applicant proposes use of NIST facilities, the statement of work should include a statement of this intention and a description of the facilities. Any use of NIST facilities must be approved by appropriate NIST management and is at the sole discretion of NIST. Prior to beginning the merit review process, NIST will verify the availability of the facilities and approval of the proposed usage. Any unapproved facility use will be stricken from the proposal prior to the merit review. Examples of some facilities that may be available for collaborations are listed on the NIST Technology Services Web site, http://ts.nist.gov/.

Paperwork Reduction Act: The standard forms in the application kit involve a collection of information subject to the Paperwork Reduction Act. The use of Standard Forms 424, 424A, 424B, SF-LLL, and CD-346 have been approved by the Office of Management and Budget (OMB) under the respective Control Numbers 0348-0043, 0348-0044, 0348-0040, 0348-0046, and 0605-0001.

Notwithstanding any other provision of the law, no person is required to respond to, nor shall any person be subject to a penalty for failure to comply with, a collection of information subject to the requirements of the Paperwork Reduction Act, unless that collection of information displays a currently valid OMB Control Number.

Research Projects Involving Human Subjects, Human Tissue, Data or Recordings Involving Human Subjects: Any proposal that includes research involving human subjects, human tissue, data or recordings involving human subjects must meet the requirements of the Common Rule for the Protection of Human Subjects, codified for the Department of Commerce at 15 CFR part 27. In addition, any proposal that includes research on these topics must be in compliance with any statutory requirements imposed upon the Department of Health and Human Services (DHHS) and other Federal agencies regarding these topics, all regulatory policies and guidance adopted by DHHS, the Food and Drug Administration, and other Federal agencies on these topics, and all Presidential statements of policy on these topics.

NIST will accept the submission of human subjects protocols that have been approved by Institutional Review Boards (IRBs) possessing a current registration filed with DHHS and to be performed by institutions possessing a current registration filed with DHHS and to be performed by institutions possessing a current, valid Federal-wide Assurance (FWA) from DHHS. NIST will not issue a single project assurance (SPA) for any IRB reviewing any human subjects protocol proposed to NIST.

President Obama has issued Executive Order No. 13,505 (74 FR. 10667, March 9, 2009), revoking previous Executive Orders and Presidential statements regarding the use of human embryonic stem cells in research. On July 30, 2009, President Obama issued a memorandum directing that agencies that support and conduct stem cell research adopt the “National Institutes of Health Guidelines for Human Stem Cell Research” (NIH Guidelines), which became effective on July 7, 2009, “to the fullest extent practicable in light of legal authorities and obligations.” On September 21, 2009, the Department of Commerce submitted to the Office of Management and Budget a statement of compliance with the NIH Guidelines. In accordance with the President's memorandum, the NIH Guidelines, and the Department of Commerce statement of compliance, NIST will support and conduct research using only human embryonic stem cell lines that have been approved by NIH in accordance with the NIH Guidelines and will review such research in accordance with the Common Rule and NIST implementing procedures, as appropriate. NIST will not support or conduct any type of research that the NIH Guidelines prohibit NIH from funding. NIST will follow any additional polices or guidance issued by the current Administration on this topic.

Research Projects Involving Vertebrate Animals: Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR parts 1, 2, and 3, and if appropriate, 21 CFR part 58. These regulations do not apply to proposed research using pre-existing images of animals or to research plans that do not include live animals that are being cared for, euthanized, or used by the project participants to accomplish research goals, teaching, or testing. These regulations also do not apply to obtaining animal materials from commercial processors of animal products or to animal cell lines or tissues from tissue banks.

Limitation of Liability: Funding for the programs listed in this notice is contingent upon the availability of Fiscal Year 2010 appropriations. NIST issues this notice subject to the appropriations made available under the current continuing resolution, H.R. 2918, “Continuing Appropriations Resolution, 2010,” Public Law 111-68, as amended by H.R. 2996, “Further Continuing Appropriations, 2010,” Public Law 111-88. NIST anticipates making awards for the programs listed in this notice provided that funding for the programs is continued beyond December 18, 2009, the expiration of the current continuing resolution. In no event will NIST or the Department of Commerce be responsible for proposal preparation costs if these programs fail to receive funding or are cancelled because of agency priorities. Publication of this announcement does not oblige NIST or the Department of Commerce to award any specific project or to obligate any available funds.

Additional Consideration of Applications: NIST programs are often cross-cutting and multi-disciplinary. If a NIST program official believes an application that is not selected for funding may be of interest to another NIST program(s), the official may forward the application to any other NIST program(s) that the program official believes may have an interest in the project, for potential consideration under the other NIST program(s) procedures. If, upon initial screening, the other NIST program(s) finds the application may be of programmatic interest, the application will proceed through the review and selection procedures described in this Notice for the program(s). If not, the application will be returned to the original program for final processing. Any applicant that does not wish for its application to be considered by other NIST programs should indicate on its application that it would like consideration of the project to be limited to the program to which it originally submitted the application. Applicants will be notified if their applications have been forwarded to another NIST program(s) for potential consideration.

Executive Order 12866: This funding notice was determined to be not significant for purposes of Executive Order 12866.

Executive Order 13132 (Federalism): It has been determined that this notice does not contain policies with federalism implications as that term is defined in Executive Order 13132.

Executive Order 12372: Applications under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553 (a)). Because notice and comment are not required under 5 U.S.C. 553, or any other law, for rules relating to public property, loans, grants, benefits or contracts (5 U.S.C. 553(a)), a Regulatory Flexibility Analysis is not required and has not been prepared for this notice, 5 U.S.C. 601 et seq.

Dated: December 10, 2009.
Jason Boehm,
Acting Director, NIST Program Office.

[FR Doc. E9-29825 Filed 12-14-09; 8:45 am]

BILLING CODE 3510-13-P